DEPARTMENT OF COMMERCE

National Oceanic and Atmospheric Administration

[RTID 0648-XE952]

Western Pacific Fishery Management Council; Public Meetings; Correction

AGENCY: National Marine Fisheries Service (NMFS), National Oceanic and Atmospheric Administration (NOAA), Commerce.

ACTION: Notice of agenda change of the Western Pacific Regional Fishery Management Council's 203rd meeting.

SUMMARY: The Western Pacific Fishery Management Council (Council) will hold its 203rd meeting to take actions on fishery management issues in the Western Pacific Region.

DATES: The meeting will be held between June 9 and June 11, 2025. For specific times and agendas, see SUPPLEMENTARY INFORMATION. Written public comments on final action items at the 203rd Council meeting should be received at the Council office by 5 p.m. HST, on Thursday, June 5, 2025 (see ADDRESSES section below).

ADDRESSES: The 203rd Council meeting will be held as a hybrid meeting for members and the public, with a remote participation option available via Webex. In-person attendance for the 203rd Council meeting will be hosted at the Ala Moana Hotel, Hibiscus Ballroom, 410 Atkinson Drive, Honolulu, HI 96814.

Specific information on joining the meeting, connecting to the web conference and providing oral public comments will be posted on the Council website at https://www.wpcouncil.org. For assistance with the web conference connection, contact the Council office at (808) 522-8220.

Council address: Western Pacific Fishery Management Council, 1164 Bishop Street, Suite 1400, Honolulu, HI 96813.

Background documents for the 203rd Council meeting will be available at https://www.wpcouncil.org. Written public comments on final action items at the 203rd Council meeting should be received at the Council office by 5 p.m. HST, Thursday, June 5, 2025, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website.

FOR FURTHER INFORMATION CONTACT: Kitty M. Simonds, Executive Director, Western Pacific Fishery Management Council; phone: (808) 522-8220.

SUPPLEMENTARY INFORMATION: The original notice published in the Federal Register on May 19, 2025 (90 FR 21289). This notice changes the agenda for the 203rd Council meeting. All other information previously published remains unchanged.

The 203rd Council meeting will be held between 1 p.m. and 5 p.m. HST on June 9, 2025, between 8:30 a.m. and 5 p.m. on June 10, 2025, and between 9 a.m. and 5 p.m. on June 11, 2025. Public Comment on Non-Agenda Items will be held between 4:30 p.m. and 5 p.m. HST on June 9, 2025. The Fishers Forum will be held between 6 p.m. and 8:30 p.m. HST on June 9, 2025.

Agenda items noted as “Final Action” refer to actions that may result in Council transmittal of a proposed fishery management plan, proposed plan amendment, or proposed regulations to the U.S. Secretary of Commerce, under sections 304 or 305 of the Magnuson-Stevens Fishery Conservation and Management Act (Magnuson-Stevens Act). In addition to the agenda items listed here, the Council and its advisory bodies will hear recommendations from Council advisors. An opportunity to submit public comment will be provided throughout the agendas. The order in which agenda items are addressed may change and will be announced in advance at the Council meeting. The meetings will run as late as necessary to complete scheduled business.

This meeting will be recorded (audio only) for the purposes of generating the minutes of the meeting. As public comments will be made publicly available, participants and public commenters are urged not to provide personally identifiable information (PII) at this meeting. Participation in the meeting by web conference, or by telephone, constitutes consent to the audio recording.

Revised Agenda for the 203rd Council Meeting

Monday, June 9, 2025, 1 p.m. to 5 p.m. HST

1. Welcome and Introductions

2. Approval of the 203rd Council Meeting Agenda

3. Approval of the 202nd Council Meeting Minutes

4. Executive Director's Report

5. Agency Reports

A. National Marine Fisheries Service

A.1. Pacific Islands Regional Office

A.2. Pacific Islands Fisheries Science Center

B. NOAA Office of General Counsel Pacific Islands Section

C. U.S. Coast Guard

D. Enforcement

D.1. NOAA Office of Law Enforcement

D.2. NOAA Office of General Counsel Enforcement Section

E. U.S. State Department

F. U.S. Fish and Wildlife Service/Department of the Interior

G. Bureau of Ocean Energy Management

H. Public Comment

I. Council Discussion and Action

Monday, June 9, 2025, 4:30 p.m. to 5 p.m. HST

Public Comment on Non-Agenda Items

Monday, June 9, 2025, 6 p.m. to 9 p.m. HST

Fishers Forum

Tuesday, June 10, 2025, 8:30 a.m. to 5 p.m. HST

6. Pelagics and International

A. 2024 Pelagic Annual SAFE Report

B. Hawaii and American Samoa Longline Fisheries (LL) Crew Training Requirement (Final Action)

C. Implementation of Electronic Monitoring (EM) in Hawaii and American Samoa LL Fisheries (Final Action)

D. Management Procedure for South Pacific Albacore

E. Advisory Group Report and Recommendations

E.1. Advisory Panels (AP)

E.2. Plan Teams (PT)

E.3. Social Science Planning Committee (SSPC)

E.4. Fishing Industry Advisory Committee (FIAC)

E.5. Scientific and Statistical Committee (SSC)

E.6. Pelagic & International Standing Committee

F. Public Comment

G. Council Discussion and Action

7. Hawaii Archipelago and Pacific Remote Island Area (PRIA)

A. Moku Pepa

B. Division of Aquatic Resources Report

C. 2024 Hawaii and PRIA Annual SAFE Report

D. Annual Catch Limit (ACL) Specifications for Main Hawaiian Islands Uku for 2026 to 2029 (Final Action)

E. Fishing Regulations for the Papahānaumokuākea National Marine Sanctuary Final Rule Update

F. Advisory Group Report and Recommendations

F.1. AP

F.2. PT

F.3. SSPC

F.4. FIAC

F.5. SSC

G. Public Comment

H. Council Discussion and Action

8. Program Planning and Research

A. Legislative Report

B. Executive Order (E.O.) and Presidential Proclamations

B.1. Proclamation 10918 Unleashing American Commercial Fishing in the Pacific

B.2. E.O. 14276 Restoring American Seafood Competitiveness, including Review of Marine National Monuments (Marianas Trench, Rose Atoll and Papahānaumokuākea)

C. Aligning Science and Management Priorities

D. Report on Inflation Reduction Act Program Projects

D.1. Scenario Planning

D.2. Community engagement/capacity building

E. Council Education and Outreach Report

F. Advisory Group Report and Recommendations

F.1. AP

F.2. PT

F.3. SSPC

F.4. FIAC

F.5. Fishery Data Collection and Research Committee

F.6. SSC

F.7. Military Expansion Standing Committee

G. Public Comment

H. Council Discussion and Action

Wednesday, June 11, 2025, 9 a.m. to 5 p.m. HST

9. Mariana Archipelago

A. Guam

A.1. Isla Informe

A.2. Department of Agriculture/Division of Aquatic and Wildlife Resources Report

A.3. 2024 Guam SAFE Report

B. Commonwealth of the Northern Mariana Islands (CNMI)

B.1. Arongol Falú

B.2. Department of Lands and Natural Resources/Division of Fish and Wildlife Report

B.3. 2024 CNMI Annual SAFE Report

B.4. 2025 CNMI Bottomfish Management Unit Species (BMUS) Stock Assessment/Western Pacific Stock Assessment Review (WPSAR) Report

C. Advisory Group Report and Recommendations

C.1. Marianas AP

C.2. PT

C.3. FIAC

C.4. SSC

C.5. Military Expansion Standing Committee

D. Public Comment

E. Council Discussion and Action

10. American Samoa Archipelago

A. Motu Lipoti

B. Department of Marine and Wildlife Resources Report

C. 2024 American Samoa Annual SAFE Report

D. Advisory Group Report and Recommendations

D.1. American Samoa AP

D.2. PT

D.3. FIAC

D.4. SSC

E. Public Comment

F. Council Discussion and Action

11. Administrative Matters

A. Financial Reports

B. Administrative Reports

C. Council Family Changes

D. Report on Council Coordination Committee

E. Meetings and Workshops

F. Executive and Budget Standing Committee Report

G. Public Comment

H. Council Discussion and Action

Non-emergency issues not contained in this agenda may come before the Council for discussion during its 203rd meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 28, 2025.
Rey Israel Marquez,
Acting Deputy Director, Office of Sustainable Fisheries, National Marine Fisheries Service.

[FR Doc. 2025-09933 Filed 5-30-25; 8:45 am]

BILLING CODE 3510-22-P